DEPARTMENT OF DEFENSE

Defense Intelligence Agency

[DoD-2008-OS-0023]

Privacy Act of 1974; Systems of Records

AGENCY: Defense Intelligence Agency, DoD.

ACTION: Notice to Amend a System of Records.

SUMMARY: The Defense Intelligence Agency is amending a system of records notice to its existing inventory of record systems subject to the Privacy Act of 1974 (5 U.S.C. 552a), as amended.

DATES: This proposed action will be effective without further notice on April 7, 2008 unless comments are received that would result in a contrary determination.

ADDRESSES: Freedom of Information Office, Defense Intelligence Agency (DAN-1A), 200 MacDill Blvd, Washington, DC 20340-5100.

FOR FURTHER INFORMATION CONTACT: Ms. Theresa Lowery at (202) 231-1193.

SUPPLEMENTARY INFORMATION: The Defense Intelligence Agency notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: February 29, 2008.
L.M. Bynum,
Alternate Federal Register Liaison Officer, Department of Defense.

LDIA 07-0002

Changes:

System name:

Delete entry “Special Program Information System” and replace with “Special Program Information Systems.”

* * * * *

Categories of individuals covered by the system:

Delete entry “Defense Intelligence Agency personnel, military personnel, and contractor employees” and replace with “Civilian, military and contract Intelligence Community employees.”

Categories of records in the system:

Delete entry “Individual's full name, Social Security Number (SSN), employee's type (civilian, military or contractor), organization name, and type of clearance level” and replace with “Individual's full name, Social Security Number (SSN), employee's type (civilian, military or contractor), organization name, type of clearance level, and name of database to which access has been granted.”

* * * * *

Purpose(s):

Delete entry “To maintain a database of Defense Intelligence Agency personnel granted access to specific information within the Intelligence Community” and replace with “To maintain a database of Intelligence Community personnel granted access to specific information within the Intelligence Community.”

* * * * *

Retention and disposal:

Delete entry “Data will be maintained as long as users maintain an active clearance in a DIA Security System. Once their clearance is no longer active, their entry will be removed automatically” and replace with “Data will be maintained as long as users require access to respective databases.”

System manager(s) and address:

Delete entry “Chief, Program Development Branch, Office for Security Operations and Anti-Terrorism, Defense Intelligence Agency, 200 MacDill Blvd., Washington, DC 20340-5100” and replace with Directorate for Information Management and Chief Information Officer, Defense Intelligence Agency, 200 MacDill Blvd., Washington, DC 20340-5100.”

* * * * *

Record source categories:

Delete entry “By the individuals, from other databases, or from external sources” and replace with “Information provided by individuals requesting access and information derived from other databases to verify eligibility, such as security clearance level.”

* * * * *

LDIA 07-0002

System name:

Special Program Information Systems.

System location:

Defense Intelligence Agency, 200 MacDill Boulevard, Washington, DC 20340.

Categories of individuals covered by the system:

Civilian, military and contract Intelligence Community employees.

Categories of records in the system:

Individual's full name, Social Security Number (SSN), employee's type (civilian, military or contractor), organization name, type of clearance level, and name of database to which access has been granted.

Authority for maintenance of the system:

Executive Order 12958, Classified National Security Information; DoD Instruction 5205.07, Special Access Program (SAP) Policy; DoD Instruction 5205.11, Management, Administration, and Oversight of DoD Special Access Programs (SAPs); DoD 5200.1-R, Information Security Program; DIA Manual 56-1, 31 Special Program Management; and E.O. 9397 (SSN).

Purpose(s):

To maintain a database of Intelligence Community personnel granted access to specific information within the Intelligence Community.

Routine uses of records maintained in the system, including categories of users and the purposes of such uses:

In addition to those disclosures generally permitted under 5 U.S.C. 552a(b) of the Privacy Act, these records or information contained therein may specifically be disclosed outside the Department of Defense as a routine use pursuant to 5 U.S.C. 552a(b)(3) as follows:

The `Blanket Routine Uses' set forth at the beginning of the DIA's compilation of systems of records notices apply to this system.

Policies and practices for storing, retrieving, accessing, retaining, and disposing of records in the system:

Storage:

Paper records in file folders and electronic storage media.

Retrievability:

Individual's name and Social Security Number (SSN).

Safeguards:

Physical entry is restricted by the use of guards, locks, and administrative procedures. Automated records are password controlled with system-generated, forced password-change protocols or equipped with “Smart Card” technology that requires the insertion of an embedded identification card and entry of a PIN.

Retention and disposal:

Data will be maintained as long as users require access to respective databases.

System manager(s) and address:

Directorate for Information Management and Chief Information Officer, Defense Intelligence Agency, 200 MacDill Blvd, Washington, DC 20340-5100.

Notification procedure:

Individuals seeking to determine whether information about themselves is contained in this system of records should address written inquiries to the DIA Privacy Office (DAN-1A), Defense Intelligence Agency, 200 MacDill Blvd, Washington, DC 20340-5100.

Requests should contain individual's full name, current address, telephone number, and Social Security Number (SSN).

Record Access Procedures:

Individuals seeking access to information about themselves contained in this system of records, should address written inquiries to the DIA Privacy Official, Defense Intelligence Agency (DAN-1A), 200 MacDill Blvd, Washington, DC 20340-5100.

Requests should contain individual's full name, current address, telephone number, and Social Security Number (SSN).

Contesting record procedures:

DIA's rules for accessing records, for contesting contents and appealing initial agency determinations are published in DIA Instruction 5400.001 “Defense Intelligence Agency Privacy Program” and DIA Instruction 5400.002, Freedom of Information Act.

Record source categories:

Information provided by individuals requesting access and information derived from other databases to verify eligibility, such as security clearance level.

Exemptions claimed for the system:

None.

[FR Doc. E8-4373 Filed 3-5-08; 8:45 am]

BILLING CODE 5001-06-P